DEPARTMENT OF THE INTERIOR

Bureau of Land Management

[LLNML00000 L14400000.EQ0000 15XL1109AF]

Notice of Temporary Closure of Public Land in Sierra County, New Mexico

AGENCY: Bureau of Land Management, Interior.

ACTION: Notice.

SUMMARY: As authorized under the provisions of the Federal Land Policy and Management Act of 1976, the Comprehensive Environmental Response, Compensation, and Liability Act (CERCLA), and pursuant to regulation, certain public land near Truth or Consequences, New Mexico, in Sierra County will be temporarily closed to all public use to provide for public health and safety during remediation work of a formerly used defense site (FUDS) by the U.S. Army Corps of Engineers (COE).

DATES: The temporary closure period is effective from February 1, 2016 to June 30, 2016.

FOR FURTHER INFORMATION CONTACT: Anthony Hom, Lead Realty Specialist, Multi-Resources Division, BLM Las Cruces District Office, 1800 Marquess Street, Las Cruces, New Mexico 88005; by telephone at 575-525-4331; or by email at ahom@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: As authorized under the provisions of the Federal Land Policy and Management Act of 1976, 43 U.S.C. 1701 et seq., the Comprehensive Environmental Response, Compensation, and Liability Act (CERCLA), and pursuant to 43 CFR 8364.1, certain public land near Truth or Consequences, New Mexico, in Sierra County will be temporarily closed to all public use to provide for public health and safety during remediation work of a formerly used defense site (FUDS) by the U.S. Army Corps of Engineers (COE).

This closure applies to all public use. The public land affected by this closure is described as follows:

New Mexico Principal Meridian, New Mexico

T. 15 S., R. 6 W.,

Sec. 33, S½NW¼NE¼, S½NE¼, and NE¼SE¼;

Sec. 34, NE¼, SE¼NW¼, E½SW¼, NW¼SW¼, and SE¼;

Sec. 35.

T. 16 S., R. 6 W.,

Sec. 3, lots 1, 2, 7, and 8.

The area described contains 1,365.40 acres.

The subject FUDS is known as the Deming Precision Bombing Range No. 24. Detonation of on-site military munitions may occur, which requires that no personnel other than COE personnel or contractors are in the area during the remedial investigation/feasibility study (RI/FS) activities. Accordingly, public safety is the key issue during the RI/FS, necessitating closure of the affected public land. Without this closure, the public could inadvertently enter the subject area and endanger themselves.The closure notice and map of the closure area will be posted at the BLM Las Cruces District Office, 1800 Marquess Street, Las Cruces, New Mexico, and on the District Web site at www.blm.gov/nm/lascruces. Signs will be posted along roads leading into the area to notify the public of the closure. Under the authority of Section 303(a) of the Federal Lands Policy and Management Act of 1976 (43 U.S.C. 1733(a)), Section 104 of CERCLA (42 U.S.C. 9604), 43 CFR 8364.1 and 43 CFR 8360.0-7, the BLM will enforce the following use in the area described above: All public use, whether motorized, non-motorized, or otherwise, is prohibited.

Exceptions: Closure restrictions do not apply to BLM authorized rights-of-way holders, lessees, COE staff and contractors, fire personnel, medical and rescue personnel, law enforcement personnel, and agency personnel monitoring the remediation work. Authorized users will need to coordinate entry with the COE and the BLM.

Enforcement: Any person who violates this closure may be tried before a United States Magistrate and fined in accordance with 18 U.S.C. 3571, imprisoned no more than 12 months under 43 U.S.C. 1733(a) and 43 CFR 8360.0-7, or both. In accordance with 43 CFR 8365.1-7, State or local officials may also impose penalties for violation of New Mexico law.

Andrew Archuleta,
Acting Deputy State Director, Lands and Resources.

[FR Doc. 2016-01175 Filed 1-20-16; 8:45 am]

BILLING CODE 4310-FB-P